DEPARTMENT OF HOMELAND SECURITY

[Docket No. CISA-2023-0022]

Next Generation Network Priority Services User Requirements

AGENCY: Cybersecurity and Infrastructure Security Agency (CISA), Department of Homeland Security (DHS).

ACTION: 60-Day notice and request for comments; new collection (request for a new OMB control number), 1670-NEW.

SUMMARY: The DHS CISA Emergency Communications Division (ECD) will submit the following Information Collection Request (ICR) to the Office of Management and Budget (OMB) for review and clearance.

DATES: Comments are encouraged and will be accepted until November 20, 2023.

ADDRESSES: You may submit comments, identified by docket number Docket # CISA-2023-0022, at:

○ Federal eRulemaking Portal: https://www.regulations.gov. Please follow the instructions for submitting comments.

Instructions: All submissions received must include the agency name and docket number Docket # CISA-2023-0022. All comments received will be posted without change to https://www.regulations.gov, including any personal information provided.

Docket: For access to the docket to read background documents or comments received, go to https://www.regulations.gov.

SUPPLEMENTARY INFORMATION: Executive Order 12862 directs Federal agencies to provide service to the public that matches or exceeds the best service available in the private sector. To work continuously to ensure that programs are effective and meet customers' needs, Cybersecurity Infrastructure Agency Emergency Communications Division (hereafter “the Agency”) seeks to obtain OMB approval of a generic clearance to collect qualitative feedback on service delivery. Qualitative feedback means information that provides useful insights on perceptions and opinions but are not statistical surveys that yield quantitative results that can be generalized to the population of study.

This collection of information is necessary to enable the Agency to garner customer and stakeholder feedback in an efficient, timely manner, in accordance with the commitment on improving service delivery. The information collected from customers and stakeholders will help ensure that users have an effective, efficient, and satisfying experience with the Agency's programs. This feedback will provide insights into customer or stakeholder perceptions, experiences, and expectations, provide an early warning of issues with service, or focus attention on areas where communication, training, or changes in operations might improve delivery of products or services. These collections will allow for ongoing, collaborative and actionable communications between the Agency and its customers and stakeholders. It will also allow feedback to contribute directly to the improvement of program management.

Improving agency programs requires ongoing assessment of service delivery, meaning a systematic review of the operation of a program compared to a set of explicit or implicit standards, as a way of contributing to the continuous improvement of the program. The Agency will collect, analyze, and interpret information gathered through this generic clearance to identify strengths and weaknesses of current services and make improvements in service delivery based on feedback. The respondent pool consists of, but not limited to, federal, state, local, tribal, territorial and industry users of emergency communications priority services. The solicitation of feedback will target areas such as: timeliness, appropriateness, accuracy of information, courtesy, efficiency of service delivery, and resolution of issues with service delivery. Responses will be assessed to plan and inform efforts to improve or maintain the quality of service offered to the public. If this information is not collected, vital feedback from customers and stakeholders on the Agency's services will be unavailable.

The Agency will only submit a collection for approval under this generic clearance process if it meets the following conditions:

• Information gathered will be used only internally for general service improvement and program management purposes and is not intended for release outside of the agency. (If released, appropriate Agency procedures will be followed);

• Information gathered will not be used for the purpose of substantially informing influential policy decisions;

• Information gathered will yield qualitative information; the collections will not be designed or expected to yield statistically reliable results or used as though the results are generalizable to the population of study;

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future; and

With the exception of information needed to provide renumeration for participants of focus groups and cognitive laboratory studies, personally identifiable information (PII) is collected only to the extent necessary and is not retained.

If these conditions are not met, the Agency will submit an information collection request to OMB for approval through the normal PRA process.

To obtain approval for a collection that meets the conditions of this generic clearance, a standardized form will be submitted to OMB along with supporting documentation (e.g., a copy of the comment card). The submission will have automatic approval unless OMB identifies issues within 5 business days.

The types of collections that this generic clearance covers include, but are not limited to:

• Customer comment cards/complaint forms.

• Focus Groups of customers, potential customers, delivery partners, or other stakeholders.

• Cognitive laboratory studies, such as those used to refine questions or assess usability of a website;

• Qualitative customer satisfaction surveys (e.g., post-transaction surveys; opt-out web surveys).

• In-person observation testing (e.g., website or software usability tests).

The Agency has established a manager/managing entity to serve for this generic clearance and will conduct an independent review of each information collection to ensure compliance with the terms of this clearance prior to submitting each collection to OMB.

If appropriate, agencies will collect information electronically and/or use online collaboration tools to reduce burden.

Small business or other small entities may be involved in these efforts, but the Agency will minimize the burden on them of information collections approved under this clearance by sampling, asking for readily available information, and using short, easy-to-complete information collection instruments. Without these types of feedback, the Agency will not have timely information to adjust its services to meet customer needs. If a confidentiality pledge is deemed useful and feasible, the Agency will only include a pledge of confidentiality that is supported by authority established in statute or regulation, that is supported by disclosure and data security policies that are consistent with the pledge, and that does not unnecessarily impede sharing of data with other agencies for compatible confidential use. If the agency includes a pledge of confidentiality, it will include a citation for the statute or regulation supporting the pledge.

There are no program changes since the previous OMB approval.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: Next Generation Network Priority Services User Requirements.

OMB Number: 1670-NEW.

Frequency: Annually.

Affected Public: Federal, state, local, tribal, territorial, and industry users of emergency communications priority services.

Number of Annualized Respondents: 50,000 for survey; 200 for focus groups.

Estimated Annual Time per Respondent: 15 minutes for survey; 60 minutes for focus groups.

Total Burden Hours: 12,500 minutes for survey; 400 minutes for focus groups.

Total Annual Cost: $523,727.

Annualized Respondent Cost: $0.

Total Annualized Respondent Out-of-Pocket Cost: $0.

Total Annualized Government Cost: $972,397.

Robert J. Costello,
Chief Information Officer, Department of Homeland Security, Cybersecurity and Infrastructure Security Agency.

[FR Doc. 2023-20150 Filed 9-18-23; 8:45 am]

BILLING CODE 9110-9P-P